DEPARTMENT OF ENERGY

Federal Energy Regulatory Commission

[Docket No. CP93-618-012]

PG&E Gas Transmission, Northwest Corp.; Notice of Annual Report

June 13, 2001.

Take notice that on May 23, 2001, PG&E Gas Transmission, Northwest Corporation (GTN) tendered for filing its “Amended Annual Reports on Deferred Revenue Recovery Mechanism and Revenue Reconciliation of the Years Ending October 31, 1998, 1999, and 2000.”

GTN states that the purpose of this filing is to revise certain schedules included in these previously filed Reports to reflect the crediting of ITS-1 (E-1) revenues to the deferred account for Avista Corporation and to correct a mechanical error in its January 29, 2001 filing.

GTN further states that a copy of this filing has been served on GTN's jurisdictional customers and interested state regulatory agencies, as well as the Office Service list compiled by the Secretary in this proceeding.

Any person desiring to protest said filing should file a protest with the Federal Energy Regulatory Commission, 888 First Street, NE., Washington, DC 20426, in accordance with section 385.211 of the Commission's Rules and Regulations. All such protests must be filed in accordance with section 154.210 of the Commission's Regulations, on or before July 5, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-15381 Filed 6-18-01; 8:45 am]

BILLING CODE 6717-01-M